DEPARTMENT OF AGRICULTURE

Animal and Plant Health Inspection Service

[Docket No. APHIS-2010-0108]

Availability of an Environmental Assessment and Finding of No Significant Impact for a Biological Control Agent for Arundo donax

AGENCY: Animal and Plant Health Inspection Service, USDA.

ACTION: Notice.

SUMMARY: We are advising the public that a final environmental assessment and finding of no significant impact have been prepared by the Animal and Plant Health Inspection Service relative to a proposed biological control program for Arundo donax (giant reed, Carrizo cane). The environmental assessment documents our review and analysis of environmental impacts associated with the proposed biological control program. Based on its finding of no significant impact, the Animal and Plant Health Inspection Service has determined that an environmental impact statement need not be prepared.

FOR FURTHER INFORMATION CONTACT: Dr. Shirley A. Wager-Page, Chief, Pest Permitting Branch, PPQ, APHIS, 4700 River Road Unit 133, Riverdale, MD 20737-1237; (301) 734-8453.

SUPPLEMENTARY INFORMATION:

Background

Arundo donax is a highly invasive, bamboo-like weed that was introduced to North America in the early 1500s for its fiber uses. It is among the fastest growing plants in the continental United States, making it a severe threat to riparian habitats and irrigation canals of the Rio Grande River Basin and the Southwestern United States, where it causes erosion, damages bridges, alters channel morphology, increases costs for chemical and mechanical control along transportation corridors, and impedes law enforcement activities along international borders. A. donax also consumes excessive amounts of water in arid regions where scarce water supplies are critical to the environment, agriculture, and municipal users. Existing A. donax management options include herbicides, prescribed fires, biomass removal, and other control methods, but these measures are expensive, temporary, and have impacts on species other than A. donax.

The proposed biological control agent, Arundo scale (Rhizaspidiotus donacis (Hemiptera: Diaspididae)), is one of the most damaging insects to A. donax in its native range. Arundo scale attacks the rhizome and developing underground buds of A. donax by feeding on cells that carry out photosynthesis and cellular respiration, resulting over time in gradual thinning, leaf reduction, and a sickly, yellowish-clouded appearance of the weed. While Arundo scale may not be singularly successful in reducing the A. donax population in the continental United States, its use is expected to be effective in combination with other control methods or biological control agents that may be released in the future.

On November 12, 2010, we published in the Federal Register (75 FR 69396, Docket No. APHIS-2010-0108) a notice ¹ announcing the availability for public review and comment of an environmental assessment (EA), in which we considered the effects of, and alternatives to, the release of Arundo scale into the continental United States for use as a biological control agent to reduce the severity of A. donax infestations. The EA evaluated two alternatives: (1) No action and (2) a biological control program (the preferred action).

¹ To view the notice, the environmental assessment, the finding of no significant impact, and the comments we received, go to http://www.regulations.gov/fdmspublic/component/main?main=DocketDetail&d=APHIS-2010-0108.

We solicited comments concerning the environmental assessment for 30 days ending December 13, 2010. We received 12 comments by that date from farmers, State and local government officials, scientists, and the general public. Eleven commenters were in favor of the release of Arundo scale. The remaining commenter expressed general disapproval of APHIS activities but did not provide any substantive concerns regarding Arundo scale that required additional consideration in the EA.

In this document, we are advising the public of our decision and finding of no significant impact (FONSI) regarding a proposed program for the control of A. donax. This decision is based upon the final EA, entitled “Field Release of the Arundo Scale, Rhizaspidiotus donacis (Hemiptera: Diaspididae), an Insect for Biological Control of Arundo donax (Poaceae) in the Continental United States” (December 2010).

The EA and FONSI may be viewed on the Regulations.gov Web site (see footnote 1). Copies of the EA and FONSI are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 9th day of February 2011.
Kevin Shea,
Acting Administrator, Animal and Plant Health Inspection Service.

[FR Doc. 2011-3368 Filed 2-14-11; 8:45 am]

BILLING CODE 3410-34-P